DEPARTMENT OF HEALTH AND HUMAN SERVICES

Centers for Disease Control and Prevention

[Program Announcement 01162]

Disability and Health Screening Programs; Notice of Availability of Funds

A. Purpose

The Centers for Disease Control and Prevention (CDC) announces the availability of fiscal year (FY) 2001 funds for grant programs entitled “Disability and Health Screening Programs.” This program addresses the “Healthy People 2010” focus areas of Disability and Secondary Conditions, Environmental Health, and Maternal, Infant, and Child Health. The purpose of the programs is: (1) To establish and enhance screening, follow-up, and referral for Glaucoma and other visual acuity problems and diseases of the eye, and (2) to investigate intestinal motility disorders in children.

B. Eligible Applicants

Assistance will be provided only to the Congressional Glaucoma Caucus Foundation and to Children's Hospital of Buffalo. No other applications are solicited. Eligibility is limited to these applicants because FY 2001 Federal appropriations specifically directs CDC to award these grant funds for the following glaucoma screening and intestinal motility disorder programs:

1. Congressional Glaucoma Caucus Foundation, Whitestone, NY. The Foundation is a non-partisan organization of members of the U.S. Congress whose purpose is to educate their communities about the risks of glaucoma and other blindness-causing eye diseases, and to provide diagnostic screening opportunities for high risk groups in their home districts across the nation.

2. Children's Hospital of Buffalo, Buffalo, NY. Established in 1892, the Children's Hospital of Buffalo is a regional center for comprehensive, specialized pediatric and women's health services. They provide a variety of clinical services for children and see more than 128,000 outpatients per year.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $441,856 is available in FY 2001 to fund one award to the Congressional Glaucoma Caucus Foundation and approximately $176,592 is available to fund one award to the Children's Hospital of Buffalo. It is expected that each award will begin on or about September 1, 2001, and will be made for a 12-month budget period within a one year project period. Funding estimates may change.

D. Where To Obtain Additional Information

For business management technical assistance, contact: Nancy B. Pillar, Grants Management Specialist, Grants Management Branch, Procurement and Grants Office, Announcement Number 01162, Centers for Disease Control and Prevention (CDC), 2920 Brandywine Road, Room 3000, MS E-13, Atlanta, GA 30341-4146, Telephone: (770) 488-2721, Email Address: nfp6@cdc.gov.

For program technical assistance for the Congressional Glaucoma Caucus Foundation, contact: Joseph B. Smith, National Center on Birth Defects and Developmental Disabilities, 4770 Buford Highway, NE, MS F-35, Atlanta, Georgia 30341, Telephone: (770) 488-7082, Email Address: jos4@cdc.gov.

For program technical assistance for the Children's Hospital of Buffalo, contact: William A. Paradies, National Center on Birth Defects and Developmental Disabilities, 4770 Buford Highway, NE, MS F-45, Atlanta, Georgia 30341, Telephone: (770) 488-4704, Email Address: wep2@cdc.gov.

Dated: May 24, 2001.
Henry S. Cassell III
Acting Director, Procurement and Grant Office, Centers for Disease Control and Prevention (CDC).

[FR Doc. 01-13616 Filed 5-30-01; 8:45 am]

BILLING CODE 4163-18-P